DEPARTMENT OF COMMERCE

International Trade Administration

[A-570-826]

Paper Clips From the People's Republic of China: Continuation of Antidumping Duty Order

AGENCY: Enforcement and Compliance, International Trade Administration, Department of Commerce.

SUMMARY: As a result of the determinations by the U.S. Department of Commerce (Commerce) and the U.S. International Trade Commission (ITC) in their five year (sunset) review that revocation of the antidumping duty (AD) order on paper clips from the People's Republic of China (China) would likely lead to a continuation or recurrence of dumping and material injury to an industry in the United States, Commerce is publishing a notice of continuation of the AD order on paper clips from China.

DATES: Applicable April 21, 2023.

FOR FURTHER INFORMATION CONTACT: Thomas Martin, AD/CVD Operations, Office VIII, Enforcement and Compliance, International Trade Administration, U.S. Department of Commerce, 1401 Constitution Avenue NW, Washington, DC 20230; telephone: (202) 482-3936.

SUPPLEMENTARY INFORMATION:

Background

On November 25, 1994, Commerce published in the Federal Register the AD order on paper clips from China.¹ On September 1, 2022, the ITC instituted ² and Commerce initiated ³ the fifth five-year (sunset) review of the Order, pursuant to section 751(c) of the Tariff Act of 1930, as amended (the Act). Commerce conducted an expedited (120-day) sunset review of the Order, pursuant to section 751(c)(3)(B) of the Act and 19 CFR 351.218(e)(1)(ii)(C)(2). As a result of its review, Commerce determined, pursuant to sections 751(c)(1) and 752(c) of the Act, that revocation of the Order would likely lead to a continuation or recurrence of dumping and, therefore, Commerce notified the ITC of the magnitude of the margin of dumping likely to prevail were the Order to be revoked.⁴

¹ See Antidumping Duty Order: Certain Paper Clips From the People's Republic of China, 59 FR 60606 (November 25, 1994) (Order).

² See Paper Clips From China; Institution of a Five-Year Review, 87 FR 53783 (September 1, 2022).

³ See Initiation of Five-Year (Sunset) Reviews, 87 FR 53727 (September 1, 2022).

⁴ See Paper Clips from the People's Republic of China: Final Results of the Expedited Fifth Sunset Review of the Antidumping Duty Order, 87 FR 79858 (December 28, 2022).

On April 14, 2023, the ITC published its determination, pursuant to sections 751(c) and 752(a) of the Act, that revocation of the Order would likely lead to a continuation or recurrence of material injury to an industry in the United States within a reasonably foreseeable time.⁵

⁵ See Paper Clips from China, 88 FR 23097 (April 14, 2023).

Scope of the Order

The products covered by the Order are certain paper clips, wholly of wire of base metal, whether or not galvanized, whether or not plated with nickel or other base metal (e.g., copper), with a wire diameter between 0.025 inches and 0.075 inches (0.64 to 1.91 millimeters), regardless of physical configuration, except as specifically excluded. The products subject to this investigation may have a rectangular or ring-like shape and include, but are not limited to, clips commercially referred to as `No. 1 clips,' `No. 3 clips,' `Jumbo' or `Giant' clips, `Gem clips,' `Frictioned clips,' `Perfect Gems,' `Marcel Gems,' `Universal clips,' `Nifty clips,' `Peerless clips,' `Ring clips,' and `Glide-On clips.'

Specifically excluded from the scope of this Order are plastic and vinyl covered paper clips, butterfly clips, binder clips, or other paper fasteners that are not wholly made of wire of base metal and are covered under a separate subheading of the Harmonized Tariff Schedule of the United States (HTSUS).

Also excluded are Pendaflex Pile Smart Label Clips that are not wholly made of wire of base metal but are stainless steel wire attached to molded plastic parts and writeable/rewriteable labels.

The products subject to the order are currently classifiable under subheading 8305.90.3010 of the HTSUS. Although the HTSUS subheadings are provided for convenience and customs purposes, the written description of the scope of the Order is dispositive.

Continuation of the Order

As a result of the determinations by Commerce and the ITC that revocation of the Order would likely lead to a continuation or recurrence of dumping, and material injury to an industry in the United States, pursuant to sections 751(c) and 751(d)(2) of the Act, Commerce hereby orders the continuation of the Order. U.S. Customs and Border Protection will continue to collect AD cash deposits at the rates in effect at the time of entry for all imports of subject merchandise. The effective date of the continuation of the Order will be the date of publication in the Federal Register of this notice of continuation. Pursuant to section 751(c)(2) of the Act, Commerce intends to initiate the next five-year review of this Order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

This five-year (sunset) review and notice are in accordance with sections 751(c) and (d)(2), and 777(i)(1) the Act, and 19 CFR 351.218(f)(4).

Dated: April 17, 2023.
Lisa W. Wang,
Assistant Secretary for Enforcement and Compliance.

[FR Doc. 2023-08433 Filed 4-20-23; 8:45 am]

BILLING CODE 3510-DS-P